DEPARTMENT OF COMMERCE

International Trade Administration

[A-583-853, A-570-010, C-570-011]

Certain Crystalline Silicon Photovoltaic Products From the People's Republic of China and From Taiwan: Final Results of Changed Circumstances Reviews, and Revocation of Antidumping Duty Orders and Countervailing Duty Order, in Part

AGENCY: Enforcement and Compliance, International Trade Administration, Department of Commerce.

SUMMARY: On February 16, 2017, the Department of Commerce (the “Department”) published its preliminary results of changed circumstances reviews (“CCRs”) and intent to revoke, in part, the antidumping duty (“AD”) and countervailing duty (“CVD”) orders on certain crystalline silicon photovoltaic products from the People's Republic of China (“PRC”) and the AD order on certain crystalline silicon photovoltaic products from Taiwan (collectively the “Orders”) with respect to certain solar panels. Specifically, the Department preliminarily determined that the producers accounting for substantially all of the production of the domestic like product to which the Orders pertain lacked interest in the relief provided by the Orders with respect to certain solar panels that are incorporated in the battery charging and maintaining units described below. We invited interested parties to comment on the preliminary results. No party submitted comments. For the final results of these CCRs, the Department is revoking, in part, the Orders as to imports of certain solar panels that are incorporated in the battery charging and maintaining units described below.

DATES: Effective April 5, 2017.

FOR FURTHER INFORMATION CONTACT: Magd Zalok or Howard Smith, AD/CVD Operations, Office IV, Enforcement and Compliance, International Trade Administration, U.S. Department of Commerce, 1401 Constitution Avenue NW., Washington, DC 20230; telephone: (202) 482-4162 or (202) 482-5193, respectively.

Background

On February 18, 2015, the Department published the Orders in the Federal Register.¹ On April 20, 2016, the Department received a request on behalf of PulseTech Products Corporation (“PulseTech”) for CCRs to revoke, in part, the Orders with respect to certain stand-alone solar panels and certain solar panels incorporated in a specific type of battery charging and maintaining unit.² In subsequent submissions filed between May 12, 2016, and September 2, 2016, PulseTech modified the description of the exclusion request for solar panels incorporated in certain battery charging and maintaining units. On September 6, 2016, SolarWorld Americas, Inc. (“Petitioner”) stated that it agrees with the scope exclusion language proposed by PulseTech.³ Ultimately PulseTech withdrew its request for changed circumstances reviews with respect to the stand-alone solar panels not incorporated in battery charging and maintaining units.⁴

¹ See Certain Crystalline Silicon Photovoltaic Products from the People's Republic of China: Antidumping Duty Order; and Amended Final Affirmative Countervailing Duty Determination and Countervailing Duty Order, 80 FR 8592 (Feb. 18, 2015); see also Certain Crystalline Silicon Photovoltaic Products from Taiwan: Antidumping Duty Order, 80 FR 8596 (Feb. 18, 2015) (“Orders”).

² See April 20, 2016 letter from PulseTech Products Corporation Re: Resubmission of Requests for Changed Circumstances Review—Certain Crystalline Silicon Photovoltaic Products from the People's Republic of China and from Taiwan (“PulseTech's Request”).

³ See September 6, 2016 letter from Petitioner Re: Certain Crystalline Silicon Photovoltaic Products from the People's Republic of China and Taiwan: Changed Circumstances Review Request—Letter of No Opposition.

⁴ See PulseTech's October 28, 2016 submission to the Department.

On November 10, 2016, the Department published the Initiation Notice for the requested CCRs in the Federal Register.⁵ On February 16, 2017, the Department published the Preliminary Results of these CCRs in which it found that producers accounting for substantially all of the production of the domestic like product to which the Orders pertain lack interest in the relief afforded by the Orders with respect to certain solar panels incorporated in a specific type of battery charging and maintaining unit as described in PulseTech's request.⁶ The Department invited interested parties to submit comments on the Preliminary Results. We received no comments.

⁵ See Certain Crystalline Silicon Photovoltaic Products from the People's Republic of China and from Taiwan: Notice of Initiation of Changed Circumstances Reviews, and Consideration of Revocation of the Antidumping and Countervailing Duty Orders in Part, 81 FR 78967 (Nov. 10, 2016) (“Initiation Notice”).

⁶ See Certain Crystalline Silicon Photovoltaic Products from the People's Republic of China and from Taiwan: Preliminary Results of Changed Circumstances Reviews, and Intent to Revoke Antidumping Duty Orders and Countervailing Duty Order in Part, 82 FR 10878 (February 16, 2017) (“Preliminary Results”).

Final Results of Changed Circumstances Reviews, and Revocation of the Orders, in Part

Because no party submitted comments opposing the Department's Preliminary Results, and the record contains no other information or evidence that calls into question the Preliminary Results, the Department determines, pursuant to section 751(d)(1) of the Tariff Act of 1930, as amended (the “Act”), section 782(h) of the Act, and 19 CFR 351.222(g), that there are changed circumstances that warrant revocation of the Orders, in part. Specifically, because the producers accounting for substantially all of the production of the domestic like product to which the Orders pertain lack interest in the relief provided by the Orders with respect to the following type of solar panels, we are revoking the Orders, in part for solar panels that are:

(1) Less than 300,000 mm² in surface area; (2) less than 27.1 watts in power; (3) coated across their entire surface with a polyurethane doming resin; and (4) joined to a battery charging and maintaining unit (which is an acrylonitrile butadiene styrene (“ABS”) box that incorporates a light emitting diode (“LED”)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.” The scope description below includes this exclusion language.

Scope of the AD and CVD Orders on Certain Crystalline Silicon Photovoltaic Products From the PRC

The merchandise covered by these orders are modules, laminates and/or panels consisting of crystalline silicon photovoltaic cells, whether or not partially or fully assembled into other products, including building integrated materials. For purposes of these orders, subject merchandise includes modules, laminates and/or panels assembled in the PRC consisting of crystalline silicon photovoltaic cells produced in a customs territory other than the PRC.

Subject merchandise includes modules, laminates and/or panels assembled in the PRC consisting of crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Excluded from the scope of these orders are thin film photovoltaic products produced from amorphous silicon (a-Si), cadmium telluride (CdTe), or copper indium gallium selenide (CIGS). Also excluded from the scope of these orders are modules, laminates and/or panels assembled in the PRC, consisting of crystalline silicon photovoltaic cells, not exceeding 10,000 mm² in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good. Further, also excluded from the scope of these orders are any products covered by the existing antidumping and countervailing duty orders on crystalline silicon photovoltaic cells, whether or not assembled into modules, laminates and/or panels, from the PRC.⁷ Additionally, excluded from the scope of these orders are solar panels that are: (1) Less than 300,000 mm² in surface area; (2) less than 27.1 watts in power; (3) coated across their entire surface with a polyurethane doming resin; and (4) joined to a battery charging and maintaining unit (which is an acrylonitrile butadiene styrene (“ABS”) box that incorporates a light emitting diode (“LED”)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

⁷ See Crystalline Silicon Photovoltaic Cells, Whether or Not Assembled into Modules, from the People's Republic of China: Amended Final Determination of Sales at Less Than Fair Value, and Antidumping Duty Order, 77 FR 73018 (Dec. 7, 2012); Crystalline Silicon Photovoltaic Cells, Whether or Not Assembled into Modules, from the People's Republic of China: Countervailing Duty Order, 77 FR 73017 (Dec. 7, 2012).

Merchandise covered by these orders is currently classified in the Harmonized Tariff Schedule of the United States (“HTSUS”) under subheadings 8501.61.0000, 8507.20.8030, 8507.20.8040, 8507.20.8060, 8507.20.8090, 8541.40.6020, 8541.40.6030, and 8501.31.8000. These HTSUS subheadings are provided for convenience and customs purposes; the written description of the scope of these orders is dispositive.

Scope of the AD Order on Certain Crystalline Silicon Photovoltaic Products From Taiwan

The merchandise covered by this order is crystalline silicon photovoltaic cells, and modules, laminates and/or panels consisting of crystalline silicon photovoltaic cells, whether or not partially or fully assembled into other products, including building integrated materials.

Subject merchandise includes crystalline silicon photovoltaic cells of thickness equal to or greater than 20 micrometers, having a p/n junction formed by any means, whether or not the cell has undergone other processing, including but not limited to, cleaning, etching, coating, and/or addition of materials (including, but not limited to, metallization and conductor patterns) to collect and forward the electricity that is generated by the cell.

Modules, laminates, and panels produced in a third-country from cells produced in Taiwan are covered by this order. However, modules, laminates, and panels produced in Taiwan from cells produced in third-country are not covered by this order.

Excluded from the scope of this order are thin film photovoltaic products produced from amorphous silicon (a-Si), cadmium telluride (CdTe), or copper indium gallium selenide (CIGS). Also excluded from the scope of this order are crystalline silicon photovoltaic cells, not exceeding 10,000 mm² in surface area, that are permanently integrated into a consumer good whose function is other than power generation and that consumes the electricity generated by the integrated crystalline silicon photovoltaic cells. Where more than one cell is permanently integrated into a consumer good, the surface area for purposes of this exclusion shall be the total combined surface area of all cells that are integrated into the consumer good. Further, also excluded from the scope of this order are any products covered by the existing antidumping and countervailing duty orders on crystalline silicon photovoltaic cells, whether or not assembled into modules, from the PRC.⁸ Also excluded from the scope of this order are modules, laminates, and panels produced in the PRC from crystalline silicon photovoltaic cells produced in Taiwan that are covered by an existing proceeding on such modules, laminates, and panels from the PRC. Additionally, excluded from the scope of this order are solar panels that are: (1) Less than 300,000 mm² in surface area; (2) less than 27.1 watts in power; (3) coated across their entire surface with a polyurethane doming resin; and (4) joined to a battery charging and maintaining unit (which is an acrylonitrile butadiene styrene (“ABS”) box that incorporates a light emitting diode (“LED”)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

⁸ See Crystalline Silicon Photovoltaic Cells, Whether or Not Assembled into Modules, from the People's Republic of China: Amended Final Determination of Sales at Less Than Fair Value, and Antidumping Duty Order, 77 FR 73018 (Dec. 7, 2012); Crystalline Silicon Photovoltaic Cells, Whether or Not Assembled into Modules, from the People's Republic of China: Countervailing Duty Order, 77 FR 73017 (Dec. 7, 2012).

Merchandise covered by this order is currently classified in the HTSUS under subheadings 8501.61.0000, 8507.20.8030, 8507.20.8040, 8507.20.8060, 8507.20.8090, 8541.40.6020, 8541.40.6030, and 8501.31.8000. These HTSUS subheadings are provided for convenience and customs purposes; the written description of the scope of this order is dispositive.

Instructions to U.S. Customs and Border Protection

Because we determine that there are changed circumstances that warrant the revocation of the Orders, in part, and there have been no completed administrative reviews of the Orders, we will instruct U.S. Customs and Border Protection (“CBP”) to liquidate without regard to antidumping and countervailing duties, and to refund any estimated antidumping and countervailing duties on, all unliquidated entries of the merchandise covered by this partial revocation that were entered, or withdrawn from warehouse, for consumption, on or after the date that corresponds to the date that suspension of liquidation first began in the relevant proceeding.⁹

⁹ Suspension of liquidation first began for merchandise subject to the CVD order on June 10, 2014; suspension of liquidation first began for merchandise subject to the AD orders on July 31, 2014.

Notification

This notice serves as a reminder to parties subject to an administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results and revocation, in part, and notice in accordance with sections 751(b) and 777(i) of the Act and 19 CFR 351.216, 19 CFR 351.221(c)(3), and 19 CFR 351.222.

Dated: March 30, 2017.
Ronald K. Lorentzen,
Acting Assistant Secretary for Enforcement and Compliance.

[FR Doc. 2017-06727 Filed 4-4-17; 8:45 am]

BILLING CODE 3510-DS-P